FEDERAL MARITIME COMMISSION

[Docket No. 11-13]

Atlantic Shipping Company, Inc. v. Di Nos Shipping, Inc.; Notice of Filing of Complaint and Assignment

Notice is given that a complaint has been filed with the Federal Maritime Commission (Commission) by Atlantic Shipping Company, Inc., hereinafter “Complainant,” against DI Nos Shipping, Inc., hereinafter “Respondent”. Complainant asserts that it is a vessel-operating common carrier. Complainant alleges that Respondent is acting as a freight forwarder in Massachusetts.

Complainant alleges that Respondent is in violation of the Shipping Act of 1984, 46 U.S.C. 40901 and 40902, by operating as a freight forwarder without a license and that Respondent has copied Complainant's standard contract, known as a dock receipt and bill of lading “with the intent of confusing potential customers”. Complainant requests that the Commission issue “[a]n order enjoining the Defendant [Respondent], temporarily, preliminarily and permanently from operating as an ocean transportation intermediary without appropriate licensing and bonding” and “[a]n order enjoining the [Respondent], temporarily, preliminarily and permanently from operating using its current form of dock receipt and bill of lading.” The full text of the complaint can be found in the Commission's Electronic Reading Room at http://www.fmc.gov.

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by August 14, 2012 and the final decision of the Commission shall be issued by December 12, 2012.

Karen V. Gregory,
Secretary.

[FR Doc. 2011-21188 Filed 8-18-11; 8:45 am]

BILLING CODE 6730-01-P